DEPARTMENT OF THE INTERIOR

Bureau of Land Management

[LLWO230000.L11100000.PH0000.LXSGPL000000.HAG 19-0055]

Notice of Availability of Record of Decision and Approved Resource Management Plan Amendment for Greater Sage-Grouse Conservation, Oregon

AGENCY: Bureau of Land Management, Interior.

ACTION: Notice of Availability.

SUMMARY: The Bureau of Land Management (BLM) announces the availability of the Oregon Greater Sage-Grouse Record of Decision (ROD) and Approved Resource Management Plan (RMP) Amendment for Greater Sage-Grouse conservation for the Oregon Greater Sage-Grouse Sub-Region. The Acting State Director signed the ROD on March 15, 2019, which constitutes the final decision of the BLM and makes the approved ROD effective immediately.

ADDRESSES: The ROD is available on the BLM ePlanning project website at https://goo.gl/4CNtH8. Click the Documents and Reports link on the left side of the screen to find the electronic version of these materials. Paper copies of the ROD are also available for public inspection at the Oregon State Office and the Burns, Lakeview, Prineville, and Vale BLM District Offices.

FOR FURTHER INFORMATION CONTACT: Jim Regan-Vienop, Planning and Environmental Coordinator, at 503-808-6062; 1220 SW 3rd Ave. Suite 1305, Portland, OR 97204; jreganvienop@blm.gov. Persons who use a telecommunications device for the deaf (TDD) may call the Federal Relay Service (FRS) at 1-800-877-8339. The FRS is available 24 hours a day, 7 days a week, to leave a message or question with Mr. Regan-Vienop. You will receive a reply during normal business hours.

SUPPLEMENTARY INFORMATION: The BLM developed the Oregon Greater Sage-Grouse Approved RMP Amendment to enhance cooperation with states by improving alignment with state management plans and strategies for Greater Sage-Grouse, while continuing to conserve, enhance, and restore Greater Sage-Grouse and its habitat.

The BLM developed the Oregon Greater Sage-Grouse Approved RMP Amendment in collaboration with Oregon Governor Kate Brown, State wildlife managers, and other concerned organizations and individuals largely through the Western Governors Association's Sage-Grouse Task Force. Using its discretion and authority under the Federal Land Policy and Management Act, the BLM amends land use plans that address Greater Sage-Grouse management to further improve alignment with the State of Oregon plans and management strategies in accordance with the BLM's multiple use and sustained yield mission. The Oregon Greater Sage-Grouse Approved RMP Amendment is one of six separate plan amendments developed and issued in response to Secretarial Order (SO) 3353 (Greater Sage-Grouse Conservation and Cooperation with Western States) and in accordance with SO 3349 (American Energy Independence). The six amendments refine the previous management plans adopted in 2015 and aim to strike a regulatory balance and build greater trust among neighboring interests in Western communities.

The Oregon Greater Sage-Grouse Approved RMP Amendment specifically addresses the availability or unavailability of livestock grazing in 13 key Research Natural Areas and clarifies plan provisions related to compensatory mitigation. The Oregon Greater Sage-Grouse Approved RMP Amendment amends the following RMPs for lands administered by the BLM in Oregon:

• Andrews (2005)

• Baker (1989)

• Brothers/La Pine (1989)

• Lakeview (2003)

• Southeastern Oregon (2002)

• Steens (2005)

• Three Rivers (1992)

• Upper Deschutes (2005)

The planning area includes approximately 60,649 acres of lands administered by the BLM in three Oregon counties: Harney, Lake, and Malheur. Within the decision area, the BLM administers approximately 21,959 acres of public lands, all of which is Greater Sage-Grouse habitat. Surface management decisions made in the Oregon Greater Sage-Grouse Approved RMP Amendment apply only to lands administered by the BLM in the decision area.

The BLM prepared an environmental impact statement (EIS) in accordance with the National Environmental Policy Act (NEPA) to analyze the direct, indirect, and cumulative environmental impacts associated with the proposed action and the alternatives. The ROD approves the agency preferred alternative identified in the Final EIS. The BLM issued the ROD based on compliance with relevant laws, regulations, policies, and plans, including those guiding agency decisions that may have an impact on resources and their values, services, and functions.

On December 10, 2018, the Notice of Availability (NOA) for the Oregon Greater Sage-Grouse Proposed RMP Amendment/Final EIS (83 FR 63524) was published in the Federal Register. The publication of the NOA initiated a 30-day protest period for the proposed land use planning decision. The protest period was later extended an additional seven days to help account for technical issues the public encountered when submitting protests during the partial Federal Government shutdown in January 2019. The NOA publication also initiated a simultaneous 60-day review by the Governor of Oregon to identify any inconsistencies with State or local plans, policies, or programs. At the close of the protest period, 12 protests had been received. These protests were resolved by the BLM Director; individual protest response letters were sent to all protesting parties. Protest resolution is contained in the Director's Protest Summary Report, which is available online at https://www.blm.gov/programs/planning-and-nepa/public-participation/protest-resolution-reports. The Oregon Greater Sage-Grouse Proposed RMP Amendment was not modified as a result of the protest resolution. The Oregon Governor's consistency review identified the following inconsistency: Language in the Proposed RMPA/Final EIS related to compensatory mitigation failed to fully acknowledge the State of Oregon's jurisdiction, authorities, and abilities to require compensatory mitigation for impacts to Greater Sage-Grouse. The BLM clarified in the ROD for the Oregon Greater Sage-Grouse Proposed RMP Amendment that, when the State of Oregon requires compensatory mitigation as a component of compliance with the State's mitigation program, policy, or state regulation, the BLM will incorporate and enforce that compensatory mitigation as a condition of permits or authorizations issued by BLM Oregon.

Authority: 40 CFR 1506.6.

Theresa M. Hanley,
Acting State Director, BLM Oregon/Washington.

[FR Doc. 2019-05297 Filed 3-19-19; 8:45 am]

BILLING CODE 4310-84-P